DEPARTMENT OF THE INTERIOR

National Park Service

Notice of Inventory Completion: The Public Museum, Grand Rapids, MI

AGENCY: National Park Service, Interior.

ACTION: Notice.

Notice is here given in accordance with the Native American Graves Protection and Repatriation Act (NAGPRA), 25 U.S.C. 3003, of the completion of an inventory of human remains in the possession of The Public Museum, Grand Rapids, MI. The human remains were removed from either the vicinity of Mackinaw City or Mackinac Island, MI.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by The Public Museum's professional staff in consultation with representatives of the Little Traverse Bay Band of Odawa Indians, Michigan.

At an unknown date, human remains representing a minimum of two individuals were removed from the vicinity of Mackinaw City or Mackinac Island, MI, by E. H. Crane, an amateur archeologist and avid collector. Upon Mr. Crane's death in 1917, the Kent Scientific Museum, now known as The Public Museum, purchased his collection of human remains and other anthropological and natural history collections, including the remains of these two individuals. No known individuals were identified. No associated funerary objects are present.

Museum records on the human remains are derived from Mr. Crane's notes (written directly onto the human remains) and the original information written into the museum's accession ledger at the time of acquisition. The museum records indicate that the human remains may be of mixed Native-European ancestry, suggesting a post-contact date. In 1977, further examination by a bio-anthropologist found that the human remains were consistent with a mixture of European and Native American descent. In 2008, a professional anthropology consultant examined the human remains to ensure that they were Native American and/or of mixed Native American and European descent, and concluded they did exhibit physical characteristics of a Native American individual, but that they were not so clearly exclusive that mixed Native American-European ancestry could be ruled out.

Museum records also indicated that the provenience was “old Mackinac, Michigan.” It is uncertain whether the exact provenience was Mackinac Island or the vicinity of Mackinaw City, as both of these locations were listed on later records, however, both Mackinaw City and Mackinac Island are in the tribal homeland of the Little Traverse Bay Band of Odawa Indians, Michigan. Historical evidence provided to the museum by the Little Traverse Bay Band of Odawa Indians establishes the Mackinac area as ancestral land of the Little Traverse Bay Band of Odawa Indians since before the arrival of the first European settlers to the area in the 1670s. The same documentation also provided evidence of occurrences of inter-marriage between people of Native American and European descent. Based on museum records, collector's notes, consultation evidence, and extensive examination of the human remains, The Public Museum reasonably believes the human remains are of Native American ancestry and have a shared group relationship with the Little Traverse Bay Band of Odawa Indians, Michigan.

Officials of The Public Museum have determined that, pursuant to 25 U.S.C. 3001 (9-10), the human remains described above represent the physical remains of two individuals of Native American ancestry. Officials of The Public Museum also have determined that, pursuant to 25 U.S.C. 3001 (2), there is a relationship of shared group identity that can be reasonably traced between the Native American human remains and the Little Traverse Bay Band of Odawa Indians, Michigan.

Representatives of any other Indian tribe that believes itself to be culturally affiliated with the human remains should contact Marilyn Merdzinski, Curator of Collections and Preservation, The Public Museum, 272 Pearl St NW, Grand Rapids, MI 49504, telephone (616) 456-3521, before September 12, 2008. Repatriation of the human remains to the Little Traverse Bay Band of Odawa Indians, Michigan may proceed after that date if no additional claimants come forward.

The Public Museum is responsible for notifying the Little Traverse Bay Band of Odawa Indians, Michigan and Sault Ste. Marie Tribe of Chippewa Indians of Michigan that this notice has been published.

Dated: July 22, 2008
Sherry Hutt,
Manager, National NAGPRA Program.

[FR Doc. E8-18681 Filed 8-12-08; 8:45 am]

BILLING CODE 4312-50-S